DEPARTMENT OF THE INTERIOR

National Park Service

60-Day Notice of Intention To Request Clearance of Collection of Information; Opportunity for Public Comment

AGENCY: National Park Service, Department of The Interior.

ACTION: Notice of intended submission to the Office of Management and Budget (OMB) and request for comments.

SUMMARY: Under the provisions of the Paperwork Reduction Act of 1995 (44 U.S.C. 3507 et seq.) and 5 CFR part 1320, the National Park Service (NPS) invites comments on its intention to request OMB to approve an existing collection in use without an OMB control number associated with the American Battlefield Protection Program (ABPP) grant program. Section 604(c) of the American Battlefield Protection Act (16 U.S.C. 469k) created the ABPP grant program. The purpose of the ABPP grant program is to assist (through means other than property acquisition) in the preservation of battlefields and associated sites on American soil.

DATES: To assure that the NPS considers your comments on this notice, NPS must receive the comments on or before March 9, 2004.

Send Comments To: John W. Renaud, Project Coordinator, State, Tribal and Local Programs, Heritage Preservation Services, National Center for Cultural Resources, National Park Service, 1849 C St., NW., Org. Code 2255, Washington, DC 20240-0001, via fax at (202) 371-1961, or via e-mail at John_Renaud@nps.gov.

FOR FURTHER INFORMATION CONTACT: John W. Renaud, Project Coordinator, State, Tribal and Local Programs, Heritage Preservation Services, National Center for Cultural Resources, National Park Service, 1849 C St., NW., Org. Code 2255, Washington, DC 20240-0001, via fax at (202) 371-1961, via e-mail at John_Renaud@nps.gov, or via telephone at (202) 354-2066.

SUPPLEMENTARY INFORMATION: Title: American Battlefield Protection Program grant program.

OMB Number: 1024-xxxx.

Expiration Date of Approval: Being requested from OMB.

Type of Request: Existing collection in use without an OMB control number.

Abstract: This information collection has an impact on individuals, institutions, and State, Tribal, and Local governments who wish to apply for American Battlefield Protection grant assistance to preserve and protect (through means other than property acquisition) battlefields and associated sites on American soil. The NPS uses the information collections to ensure compliance with the requirements of the American Battlefield Protection Act, as amended and the government-wide grant requirements that OMB has issued and the Department of the Interior implements through 43 CFR part 12. This information collection also will produce performance data that NPS uses to assess its progress in meeting goals set in Departmental and NPS strategic plans created pursuant to the 1993 Government Performance and Results Act, as amended.

Respondents: Individuals or households, not for profit institutions, and State, Local, or Tribal Governments.

Estimate of Burden: NPS estimates that the public burden for the ABPP grant program collection of information will average 35 hours per application and 31 hours per grant for all of the grant-related collections. The combined total public burden for the ABPP grant program-related information collections would average 66 hours per successful applicant/grantee. These estimates of burden include time for reviewing instructions, searching existing data sources, gathering and maintaining the date needed, and reviewing the collection of information.

Estimated Number of Respondents/Record Keepers: NPS estimates that there are 261 respondents. This is the gross number of respondents for all of the elements included in this information collection. The net numbers of applicants and grantees participating in this information collection annually are 53 applicants and from among them 16 grantees. The frequency of response varies depending upon the activity. Applicants complete the grant application once. Successful applicants execute the grant agreement once and usually seek an amendment once during the two-year grant cycle. During the grant cycle, grantees seek NPS approval once for qualified consultants, the draft product, the final produce, and the final report. Grantees comply with government-wide regulations and record-keeping requirements throughout the duration of the grant. Grantees provide quarterly progress reports and usually make requests for payment four times a year.

Estimated average number of Applicant responses: 53 annually.

Estimated average gross number of Grantee responses: 208 annually.

Estimated average gross number of responses: 261 annually.

Estimated average burden hours per Applicant response: 35 hours.

Estimated average burden hours per Grantee response: 3 hours.

Estimated average annual burden hours per Grantee for all responses: 31 hours.

Estimated total annual average burden hours per respondent: 66 hours.

Estimated Annual Burden on Respondents: 2,343 hours.

NPS is soliciting comments regarding:

(1) Whether the collection of information is necessary for the proper performance of the functions of NPS, including whether the information will have practical utility;

(2) The accuracy of the burden estimate including the validity of the method and assumptions used;

(3) Ways to enhance the quality, utility, and clarity of the information to be collected;

(4) Ways to minimize the burden of collecting the informaiton, including through the use of appropriate automated, electronic, mechanical, or other forms of information technology; or,

(5) Any other aspect of this collection of information.

NPS will summarize and include in the request for OMB approval all responses to this notice. All comments will also become a matter of public record. You can obtain copies of the information collection for John W. Renaud, Project Coordinator, State, Tribal and Local Programs, Heritage Preservation Services, National Center for Cultural Resources, National Park Service, 1849 C St., NW., Org. Code 2255, Washington, DC 20240-0001.

Dated: December 4, 2003.
Leonard E. Stowe,
Acting Information Collection Clearance Officer, National Park Service, WAPC.

[FR Doc. 04-408 Filed 1-8-04; 8:45 am]

BILLING CODE 4310-50-M